DEPARTMENT OF THE INTERIOR

Bureau of Land Management

[DOI-2023-0025; LLHQ500000, L18500000.YC0000, LIITADC10000, 245]

Privacy Act of 1974; System of Records

AGENCY: Bureau of Land Management, Interior.

ACTION: Notice of a modified system of records.

SUMMARY: Pursuant to the provisions of the Privacy Act of 1974, as amended, the Department of the Interior (DOI) is issuing a public notice of its intent to modify the Bureau of Land Management (BLM) Privacy Act system of records, INTERIOR/BLM-16, Timber Sale Information System (TSIS). DOI is publishing this revised system of records notice (SORN) to change the system name to INTERIOR/BLM-16, Forest Resources Information System (FRIS), to provide organizational clarification related to the overall management of the forest resources program and to update all sections of the notice in accordance with the Office of Management and Budget (OMB) policy. This modified system will be included in DOI's inventory of record systems.

DATES: This modified system will be effective upon publication. New or modified routine uses will be effective June 10, 2024. Submit comments on or before June 10, 2024.

ADDRESSES: You may send comments identified by docket number [DOI-2023-0025] by any of the following methods:

• Federal eRulemaking Portal: http://www.regulations.gov. Follow the instructions for sending comments.

• Email: DOI_Privacy@ios.doi.gov. Include docket number [DOI-2023-0025] in the subject line of the message.

• U.S. mail or hand-delivery: Teri Barnett, Departmental Privacy Officer, U.S. Department of the Interior, 1849 C Street NW, Room 7112, Washington, DC 20240.

Instructions: All submissions received must include the agency name and docket number [DOI-2023-0025]. All comments received will be posted without change to http://www.regulations.gov, including any personal information provided.

Docket: For access to the docket to read background documents or comments received, go to http://www.regulations.gov.

FOR FURTHER INFORMATION CONTACT: Ashanti Murphy-Jones, Acting Associate Privacy Officer, Bureau of Land Management, 1849 C Street NW, Room No. 5644, Washington, DC 20240, blm_wo_privacy@blm.gov or (202) 365-1429.

SUPPLEMENTARY INFORMATION:

I. Background

BLM maintains the INTERIOR/BLM-16, Timber Sale Information System (TSIS), system of records to support the management and tracking of forest resources, including timber sale, accounting, management, and activity tracking; stewardship contract management and activity; and special consolidated reporting. Each of these modules provide direct support to the BLM mission goals related to managing the use of forest and woodland products in the Public Domain (PD) and in the Oregon and California Grant Lands (O&C).

DOI is publishing this revised notice to change the system name from INTERIOR/BLM-16, Timber Sale Information System (TSIS), to INTERIOR/BLM-16, Forest Resources Information System (FRIS), to provide organizational clarification for the overall forest resources program. DOI is also adding a new purpose section to describe the primary purpose of FRIS; updating the system location to reflect a move to a DOI data center and the cloud environment; updating the system manager section, authorities for maintenance of the system, and the records source categories section to provide additional clarification on individual sources of information; updating the policies and practices for retention of records section to clarify the records retention schedule; updating safeguards to protect records; and providing an updated description on the retrieval of records. DOI is further expanding the categories of individuals to provide clarification on the individuals covered by the system and the categories of records to reflect additional types of records that are maintained in the system; and updating the records access, contesting record, and notification procedures to provide guidance on how individuals may submit requests under the Privacy Act. This notice also reorganizes the sections and updates section titles in accordance with OMB Circular A-108, Federal Agency Responsibilities for Review, Reporting, and Publication under the Privacy Act.

The existing routine uses are being updated from a numeric to alphabetic list and are being modified to provide clarity and transparency and reflect updates consistent with standard DOI routine uses. Additionally, DOI is proposing new routine uses to facilitate sharing of information with agencies and organizations to promote the integrity of the records in the system or carry out a statutory responsibility of the DOI or Federal government.

Routine use A was slightly modified to further clarify disclosures to the Department of Justice (DOJ) or other Federal agencies, when necessary, in relation to litigation or judicial hearings. Routine use B was modified to clarify disclosures to a congressional office to respond to or resolve an individual's request made to that office. Routine use H was slightly modified to include sharing of information with territorial government agencies in response to court orders or for discovery purposes related to litigation. Routine use I was modified to include grantees and shared service providers to facilitate sharing of information when authorized and necessary to perform services on DOI's behalf. Modified routine use J allows DOI and BLM to share information with appropriate Federal agencies or entities when reasonably necessary to respond to a breach of PII and to prevent, minimize, or remedy the risk of harm to individuals or the Federal government in accordance with OMB Memorandum M-17-12, Preparing for and Responding to a Breach of Personally Identifiable Information. Routine use N was modified to clarify sharing with the news media and the public where there is a legitimate public interest or in support of a legitimate law enforcement or public safety function.

Proposed routine use C facilitates sharing of information with the Executive Office of the President to resolve issues concerning individuals' records. BLM is removing the former routine use 13 for disclosure to consumer reporting agencies and has included that notice at the end of this section.

Pursuant to the Privacy Act, 5 U.S.C. 552a(b)(12), DOI may disclose information from this system to consumer reporting agencies as defined in the Fair Credit Reporting Act (15 U.S.C. 1681a(f)) or the Federal Claims Collection Act of 1966 (31 U.S.C. 3701(a)(3)) to aid in the collection of outstanding debts owed to the Federal Government.

II. Privacy Act

The Privacy Act of 1974, as amended, embodies fair information practice principles in a statutory framework governing how Federal agencies collect, maintain, use, and disseminate individuals' records. The Privacy Act applies to records about individuals that are maintained in a “system of records.” A “system of records” is a group of any records under the control of an agency from which information is retrieved by the name of an individual or by some identifying number, symbol, or other identifying information assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains, and the routine uses of each system. The INTERIOR/BLM-16, Forest Resources Information System (FRIS), SORN is published in its entirety below. In accordance with 5 U.S.C. 552a(r), DOI has provided a report of this system of records to the OMB and to Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/BLM-16, Forest Resources Information System (FRIS).

SECURITY CLASSIFICATION:

Unclassified.

SYSTEM LOCATION:

Records are maintained at National Operations Center, Bureau of Land Management, U.S. Department of the Interior, 6th Avenue & Kipling Boulevard, Denver Federal Center, Building 50, Denver, Colorado 80225. Records may also be located in a cloud location managed by the DOI.

SYSTEM MANAGER(S):

Deputy State Director, Division of Resources, Lands, and Minerals (OR930), Oregon State Office, Bureau of Land Management, U.S. Department of the Interior, P.O. Box 2965, Portland, OR 97208.

AUTHORITY FOR MAINTENANCE OF THE SYSTEM:

Exportation of unprocessed timber from Federal lands, 16 U.S.C. 617; Mineral Materials Act of 1947, 30 U.S.C. 601; Oregon and California Revested Lands Sustained Yield Management Act of 1937, 43 U.S.C. 2601; Healthy Forests Restoration Act of 2003, Public Law 108-148; Agricultural Act of 2014, Public Law 113-79.

PURPOSE(S) OF THE SYSTEM:

The primary purpose of FRIS is to track and record BLM's Forest management lifecycle activity. FRIS provides users with a suite of computational tools and procedures for managing activities associated with the management of forest resources. FRIS provides the tools for managing BLM timber sale contracts; special forest product permits, stewardship contracting process, non-contracted forest depletions, forest treatment spatial extents, pre/post contract forest inventory, timber volumes and appraisals, protest appeals, forest trespass activity, and reports.

CATEGORIES OF INDIVIDUALS COVERED BY THE SYSTEM:

The categories of the individuals covered in the system include members of the public entering a forestry products contract with BLM or individual appellants associated with a forestry management decision. These include timber purchasers/contractors (i.e., individual, partnership, corporate); contact person(s) for timber purchaser/contractor; permittees (i.e., individual or contractor) of special forest products; and appellant (i.e., individual or organization) of forestry management decision.

This system contains records concerning corporations and other business entities, which are not subject to the Privacy Act. However, records pertaining to individuals acting on behalf of corporations and other business entities may reflect personal information that may be maintained in this system of records.

CATEGORIES OF RECORDS IN THE SYSTEM:

The system contains records related to the management of forest resources. The records contain BLM timber sale contracts, special forest product permits, stewardship contracting process, non-contracted forest depletions, forest treatment spatial extents, pre/post contract forest inventory, timber volumes and appraisals, protest, appeals, forest trespass activity, and reports.

These records for purchaser contracts include business name, address, and designated representatives, timber quantity, contract price, BLM assigned contract number, and information on debts owed to BLM because of defective payments. These documents also contain the BLM contractor officer's name and title.

For permits issued to the public, the information may include individuals name, citizenship, personal email address, mailing/home address, personal phone numbers, driver's license, vehicle information, license plate information, and description of the material purchased.

RECORD SOURCE CATEGORIES:

The sources of information in the system include purchasers, purchasers' contracts, and holders of forest product permits, which can be collected on the FRIS public facing website, in person at a BLM facility, or from an authorized BLM Contracting Officer.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity if DOI or DOJ has agreed to represent that employee or pay for private representation of the employee; or

(5) The U.S. Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, territorial, local, or Tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, territorial, local, Tribal, or foreign agencies that have requested information relevant or necessary to the hiring, firing, or retention of an employee or contractor, or the issuance of a security clearance, license, contract, grant or other benefit, when the disclosure is compatible with the purpose for which the records were compiled.

G. To representatives of the National Archives and Records Administration to conduct records management inspections under the authority of 44 U.S.C. 2904 and 2906.

H. To State, territorial, and local governments and Tribal organizations or their representatives to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach, there is a risk of harm to individuals, DOI (including its information systems, programs, and operations), the Federal government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

POLICIES AND PRACTICES FOR STORAGE OF RECORDS:

Paper records are contained in file folders stored within locked file cabinets. Electronic records are stored on disk, system hard drive, tape, or other appropriate media.

POLICIES AND PRACTICES FOR RETRIEVAL OF RECORDS:

Records may be retrieved by permit or contract number, name, purchaser or permittee name, address, email, and phone number.

POLICIES AND PRACTICES FOR RETENTION AND DISPOSAL OF RECORDS:

Records in this system are retained in accordance with NARA procedures and Department Records Schedule (DRS)/General Records Schedule (GRS)/BLM Records Retention Catalog, under 4/6g(1), Forest Resource Information System. This schedule has been approved by NARA under Job Number N1-049-09-3, 1a. The records disposition is permanent. A copy of the master file is transferred to NARA along with the technical documentation in accordance with 36 CFR 1235.44-50. Thereafter, a copy transfers every 5 years along with the current technical documentation.

ADMINISTRATIVE, TECHNICAL, AND PHYSICAL SAFEGUARDS:

The records contained in this system are safeguarded in accordance with 43 CFR 2.226 and other applicable security and privacy rules and policies. During normal hours of operation, paper records are maintained in secure cabinets and/or in secure file rooms under the control of authorized personnel.

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include user identification, passwords, multi-factor authentication, database permissions, firewalls, audit logs, and network system security monitoring, and software controls.

Access to records in the system is limited to authorized personnel who have a need to access the records in the performance of their official duties, and each user's access is restricted to only the functions and data necessary to perform that person's job responsibilities. System administrators and authorized users are trained and required to follow established internal security protocols and must complete all security, privacy, and records management training and sign the DOI Rules of Behavior. A Privacy Impact Assessment was completed for the associated information systems to ensure that Privacy Act requirements are met, and appropriate privacy controls were implemented to safeguard the personally identifiable information contained in the systems.

RECORD ACCESS PROCEDURES:

An individual requesting access to their records should send a written inquiry to the applicable System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. Requests submitted by mail must be clearly marked “PRIVACY ACT REQUEST FOR ACCESS” on both the envelope and letter. A request for access must meet the requirements of 43 CFR 2.238.

CONTESTING RECORD PROCEDURES:

An individual requesting amendment of their records should send a written request to the applicable System Manager as identified above. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

An individual requesting notification of the existence of records about them should send a written inquiry to the applicable System Manager as identified above. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

75 FR 3919 (January 25, 2010), modification published at 86 FR 50156 (September 7, 2021).

Teri Barnett,
Departmental Privacy Officer, U.S. Department of the Interior.

[FR Doc. 2024-10144 Filed 5-8-24; 8:45 am]

BILLING CODE 4130-84-P